DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 4, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Child Nutrition Programs: Community Eligibility Provision—Increasing Options for Schools.

OMB Control Number: 0584-NEW.

Summary of Collection: The Child Nutrition rule, “Child Nutrition Programs: Community Eligibility Provision—Increasing Options for Schools (RIN 0584-AE93)” amends the regulations associated with the School Meals Program, which consists of the National School Lunch Program (NSLP) and the School Breakfast Program (SBP). The rule expands access to the Community Eligibility Program (CEP) by lowering the minimum identified student percentage participation threshold from 40 to 25 percent. This would give States and schools greater flexibility to choose to invest non-Federal funds so that no-cost meals can be offered to all enrolled students. Students who are classified as “identified students” are directly certified for free school meals and do not need to submit a household application. The proposal to lower the required identified student percentage expands access to the CEP, which provides more schools with an additional option for offering no-cost meals to students without requiring households to submit applications for the free and reduced-price meals. This rule amends existing information collection requirements that are currently approved in OMB Control Number 0584-0026 7 CFR part 245—Determining Eligibility for Free and Reduced Price Meals and Free Milk in Schools. Due to priorities for a number of high-profile rules and other workload priorities, FNS requested a new OMB control number for this collection. FNS intends to merge this new information collection into OMB Control Number 0584-0026 at a later date.

Need and Use of the Information: FNS collects information for this collection, which contains both mandatory and required to obtain or retain benefit requirements, from State administering agencies, local education agencies (LEAs), and households. The information collected from State agencies and LEAs ensures that eligibility determinations are verified. The information collected from households is used to determine eligibility for free and reduced-price meal benefits to verify eligibility determinations. FNS uses the information to verify that the States and LEAs are eligible to elect the CEP and to ensure compliance with the regulations. Households must meet requirements to receive free or reduced-price meal benefits.

Description of Respondents: State, Local, or Tribal Government; Individuals or Households.

Number of Respondents: 3,485,189.

Frequency of Responses: Recordkeeping; Reporting: On occasion; Annually.

Total Burden Hours: 626,375.

Rachelle Ragland-Greene,
Departmental Information Collection Clearance Officer.

[FR Doc. 2024-17140 Filed 8-2-24; 8:45 am]

BILLING CODE 3410-30-P